DEPARTMENT OF AGRICULTURE

Farm Service Agency

National Drought Policy Commission

AGENCY: Farm Service Agency, USDA.

ACTION: Notice of Commission's final meeting.

SUMMARY: The National Drought Policy Commission (Commission) shall conduct a thorough study and submit a report to the President and Congress on national drought policy. This notice announces a meeting to be held on May 16, 2000. The Commission will submit the final report and discuss its final recommendations and future activities. The meeting is open to the public.

DATES: The Commission will conduct a meeting on May 16, 2000, at 1:00 p.m. (EDT)

Persons with disabilities who require accommodations to attend or participate in this meeting should contact Leona Dittus, on 202-720-3168, Federal Relay Service at 1-800-877-8339, or Internet: leona.dittus@usda.gov, by COB May 9, 2000.

ADDRESSES: The meeting will be held in the Williamsburg Room, Jamie L. Whitten Federal Building, 12th and Jefferson Drive, SW, Washington, DC. Comments and statements should be sent to Leona Dittus, Executive Director, National Drought Policy Commission, U.S. Department of Agriculture, 1400 Independence Avenue, SW, Room 6701-S, STOP 0501, Washington, DC 20250-0501.

FOR FURTHER INFORMATION CONTACT: Leona Dittus (202) 720-3168; FAX (202) 720-9688; Internet: leona.dittus@usda.gov.

SUPPLEMENTARY INFORMATION: The purpose of the Commission is to provide advice and recommendations to the President and Congress on the creation of an integrated, coordinated Federal policy, designed to prepare for and respond to serious drought emergencies. Tasks for the Commission include developing recommendations that will: (a) Better integrate Federal laws and programs with ongoing State, local, and tribal programs, (b) improve public awareness of the need for drought mitigation, prevention, and response and (c) determine whether all Federal drought preparation and response programs should be consolidated under one existing Federal agency, and, if so, identify the agency.

Signed at Washington, DC, on April 28, 2000.
Robert D. Springer,
Acting Administrator, Farm Service Agency.

[FR Doc. 00-10985 Filed 4-28-00; 11:57 am]

BILLING CODE 3410-05-P